DEPARTMENT OF COMMERCE

International Trade Administration

[A-570-863]

Honey From the People's Republic of China: Final Results of Antidumping Duty Administrative Review; 2012-2013

AGENCY: Enforcement and Compliance, International Trade Administration, Department of Commerce.

SUMMARY: On January 7, 2015, the Department of Commerce (“Department”) published the preliminary results of the twelfth administrative review, covering the period December 1, 2012, through November 30, 2013, of the antidumping duty order on honey from the People's Republic of China (“PRC”).¹ We gave interested parties an opportunity to comment on the Preliminary Results. After analyzing interested parties' comments, we made no changes for the final results of review. The final antidumping duty margins for this review are listed in the “Final Results of Review” section below.

¹ See Honey From the People's Republic of China: Preliminary Results of Antidumping Duty Administrative Review; 2012-2013, 80 FR 862 (January 7, 2015) (“Preliminary Results”).

DATES: Effective Date: May 14, 2015.

FOR FURTHER INFORMATION CONTACT: Irene Gorelik, AD/CVD Operations, Office V, Import Administration, International Trade Administration, U.S. Department of Commerce, 14th Street and Constitution Avenue NW., Washington, DC 20230; telephone: (202) 482-6905.

SUPPLEMENTARY INFORMATION:

Background

On January 7, 2015, the Department published the Preliminary Results of this administrative review and invited interested parties to submit comments on our findings. On February 5, 2015, the mandatory respondent, Kunshan Xinlong Food Co., Ltd. (“Kunshan Xinlong”), filed a case brief.² On February 13, 2015, Petitioners ³ filed a rebuttal brief. The Department did not hold a public hearing pursuant to 19 CFR 351.310(d), as interested parties did not request one. We conducted this administrative review in accordance with section 751 of the Tariff Act of 1930, as amended (the “Act”).

² We note that the case brief was timely filed on February 5, 2015, despite the erroneous date noted on the cover letter of the case brief.

³ Petitioners are: American Honey Producers Association and Sioux Honey Association.

Analysis of Comments Received

All issues raised in the case and rebuttal briefs submitted by parties to this review are addressed in the “Administrative Review of Honey from the People's Republic of China: Issues and Decision Memorandum for the Final Results” (“Decision Memorandum”), dated concurrently with and hereby adopted by, this notice. A list of the issues which parties raised and to which we respond in the Decision Memorandum is attached to this notice as an Appendix. The Decision Memorandum is a public document and is on file electronically via Enforcement and Compliance's Antidumping and Countervailing Duty Centralized Electronic Service System (“ACCESS”). ACCESS is available to registered users at http://access.trade.gov and to all parties in the Central Records Unit (“CRU”), Room 7046 of the main Department of Commerce building. In addition, parties can obtain a complete version of the Decision Memorandum on the Internet at http://trade.gov/enforcement/frn/index.html. The signed Decision Memorandum and the electronic versions of the Decision Memorandum are identical in content.

Scope of the Order

The products covered by the order are natural honey, artificial honey containing more than 50 percent natural honey by weight, preparations of natural honey containing more than 50 percent natural honey by weight and flavored honey.⁴ The merchandise subject to the order is currently classifiable under subheadings 0409.00.00, 1702.90.90 and 2106.90.99 of the Harmonized Tariff Schedule of the United States (“HTSUS”). Although the HTSUS subheadings are provided for convenience and customs purposes, the Department's written description of the merchandise is dispositive.⁵

⁴ See Decision Memorandum for a complete description of the Scope of the Order.

⁵ See Notice of Antidumping Duty Order And Amendment To Final Determination: Honey from the People's Republic of China, 66 FR 59026 (December 10, 2001).

PRC-Wide Entity

In the Preliminary Results, the Department indicated its intention to make a determination at the final results with respect to two companies for which the review was timely withdrawn: Fuzhou Shenglinmark Trade Co., Ltd., and Dongtai Peak Honey Industry Co., Ltd.⁶ In the Preliminary Results, we stated that “because Fuzhou Shenglinmark Trade Co., Ltd. and Dongtai Peak were not eligible for separate-rate status at the initiation of the review, the Department's practice is to refrain from rescinding the review with respect to these two companies at this time . . . ” because “while the request for review of these companies was timely withdrawn, we preliminarily determine that the companies remain part of the PRC-wide entity, which is under review for these preliminary results.” ⁷ We further stated that we “will make a determination with respect to the PRC-wide entity at the conclusion of this review.” ⁸ Because there are no changes to the facts regarding these two companies since the Preliminary Results, we continue to find that Fuzhou Shenglinmark Trade Co., Ltd., and Dongtai Peak Honey Industry Co., Ltd. are part of the PRC-wide entity, which is under review.

⁶ See Preliminary Results, 80 FR at 862 and accompanying Preliminary Decision Memorandum at pages 1-2 and 3-4. See also Letter from Petitioners re: “Partial Withdrawal of Request for 12th Administrative Review,” dated February 28, 2014.

⁷ See Preliminary Results, 80 FR at 862 and accompanying Preliminary Decision Memorandum at pages 3-4.

⁸ Id.

As discussed in the Preliminary Results, the Department relied on facts available in making its preliminary determination with respect to Kunshan Xinlong, and treated it as part of the PRC-wide entity. We preliminarily drew an adverse inference in selecting from among the facts otherwise available. Because Kunshan Xinlong, as part of the PRC-wide entity, withheld requested information, failed to provide information in a timely manner and in the form requested, and significantly impeded this proceeding, we continue to find that the PRC-wide entity failed to cooperate to the best of its ability and, accordingly, find it appropriate to assign it a margin based on adverse facts available (“AFA”). The Department's determination is in accordance with sections 776(a)(2)(A), (B), (C) and 776(b) of the Act.⁹ For a detailed discussion regarding Kunshan Xinlong, see Decision Memorandum.

⁹ See, e.g., Non-Malleable Cast Iron Pipe Fittings from the People's Republic of China: Final Results of Antidumping Duty Administrative Review, 71 FR 69546 (December 1, 2006) and accompanying Issues and Decision Memorandum at Comment 1. See also Certain Frozen Warmwater Shrimp from the Socialist Republic of Vietnam: Preliminary Results of the First Administrative Review and New Shipper Review, 72 FR 10689, 10692 (March 9, 2007) (decision to apply total AFA to the NME-wide entity) unchanged in Certain Frozen Warmwater Shrimp From the Socialist Republic of Vietnam: Final Results of the First Antidumping Duty Administrative Review and First New Shipper Review, 72 FR 52052 (September 12, 2007).

Final Results of Review

As a result of this administrative review, the weighted-average dumping margin for the POR is as follows:

Manufacturer/exporter | Margin (dollars per kilogram)
PRC-wide entity ¹⁰ | 2.63

Assessment

Consistent with these final results, and pursuant to section 751(a)(2)(C) of the Act and 19 CFR 351.212(b), the Department will direct U.S. Customs and Border Protection (“CBP”) to assess antidumping duties on all appropriate entries. Consistent with AR5 Final Results, we will direct CBP to assess importer-specific assessments rates based on the resulting per-unit (i.e., per kilogram) amount on each entry of the subject merchandise during the review period.¹¹ The Department intends to issue assessment instructions to CBP 15 days after the publication date of the final results of this review.

¹⁰ The PRC-wide entity includes: Kunshan Xinlong Food Co., Ltd., Fuzhou Shenglinmark Trade Co., Ltd., and Dongtai Peak Honey Industry Co., Ltd.

¹¹ See Honey from the People's Republic of China: Final Results and Rescission, In Part, of Aligned Antidumping Duty Administrative Review and New Shipper Review, 73 FR 424321 (July 21, 2008) (“AR5 Final Results”).

For entries that were not reported in the U.S. sales database submitted by an exporter individually examined during this review, the Department will instruct CBP to liquidate such entries at the PRC-wide rate. Additionally, if the Department determines that an exporter under review had no shipments of the subject merchandise, any suspended entries that entered under that exporter's case number will be liquidated at the PRC-wide rate.

Cash Deposit Requirements

The following cash deposit requirements will be effective upon publication of these final results of administrative review for all shipments of the subject merchandise entered, or withdrawn from warehouse, for consumption on or after the publication date, as provided for by section 751(a)(2)(C) of the Act: (1) For the exporter listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate $2.63 per kilogram; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: May 7, 2015.
Paul Piquado,
Assistant Secretary for Enforcement and Compliance.

Appendix—List of Topics Discussed in the Decision Memorandum

I. Summary

II. Background

1. Scope of the Order

2. Case Timeline

III. Discussion of the Issues

Comment 1: Whether the Department's Rejection of Kunshan Xinlong's Post-Deadline Extension Requests Was Appropriate

Comment 2: Whether the Department Properly Disallowed Kunshan Xinlong to Submit a Supplemental Section C Questionnaire Response

Comment 3: Whether the Adverse Inference Is Appropriate

Comment 4: Whether the AFA Rate Is Appropriate

IV. Recommendation

[FR Doc. 2015-11577 Filed 5-13-15; 8:45 am]

BILLING CODE 3510-DS-P